DEPARTMENT OF EDUCATION

[CDFA Nos.: 84.133A-18 and 84.133A-19]

National Institute on Disability and Rehabilitation Research

AGENCY: Office of Special Education and Rehabilitative Services, Department of Education.

ACTION: Notice reopening application deadline date.

SUMMARY: On June 26, 2001, the Office of Special Education and Rehabilitative Services, National Institute on Disability and Rehabilitation Research published a notice in the Federal Register (66 FR 34034) inviting applications for new fiscal year (FY) 2001 grant awards for four Disability and Rehabilitation Research Projects and Centers Program (DRRP) priority areas. The intent of this notice is to reopen the competition for two of the priority areas: Resource Center for Community-based Research on Technology for Independence (CFDA 84.133A-18) and Community-based Research Projects on Technology for Independence (CFDA 84.133A-19).

Deadline for Transmittal of Applications: April 15, 2002.

Note to Applicants: The information provided in the Notice of Final Priorities published on June 26, 2001, (66 FR 34026) identifies the requirements for applications submitted in response to this notice. The information in this notice remains the same except for the CFDA numbers for the competition have been changed.

FOR FURTHER INFORMATION CONTACT: Donna Nangle, U.S. Department of Education, 400 Maryland Avenue, SW., room 3414, Switzer Building, Washington, DC 20202-2645. Telephone: (202) 205-5880 or via the Internet: donna.nangle@ed.gov.

If you use a telecommunications device for the deaf (TDD), you may call the TDD number at (202) 205-4475. Individuals with disabilities may obtain this document in an alternative format (e.g., Braille, large print, audiotape, or computer diskette) on request to the contact person listed under FOR FURTHER INFORMATION CONTACT.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 29 U.S.C. 762(g) and 764(b).

Dated: February 8, 2002.
Loretta L. Petty,
Acting Assistant Secretary for Special Education and Rehabilitative Services.

[FR Doc. 02-3674 Filed 2-13-02; 8:45 am]

BILLING CODE 4000-01-P